DEPARTMENT OF TRANSPORTATION

National Highway Traffic Safety Administration

[U.S. DOT Docket No. NHTSA-2010-0179]

Reports, Forms, and Record Keeping Requirements

AGENCY: National Highway Traffic Safety Administration (NHTSA), DOT.

ACTION: Request for public comment on proposed collection of information.

SUMMARY: Before a Federal agency can collect certain information from the public, it must receive approval from the Office of Management and Budget (OMB). Under procedures established by the Paperwork Reduction Act of 1995, before seeking OMB approval, Federal agencies must solicit public comment on proposed collections of information, including extensions and reinstatements of previously approved collections.

This document describes the collection of information for which NHTSA intends to seek OMB approval.

DATES: Comments must be received on or before March 14, 2011.

ADDRESSES: You may submit comments identified by DOT Docket ID Number NHTSA-2010-0179 using any of the following methods:

Electronic submissions: Go to http://www.regulations.gov. Follow the on-line instructions for submitting comments.

Mail: Docket Management Facility, M-30, U.S. Department of Transportation, 1200 New Jersey Avenue, SE., West Building Ground Floor, Room W12-140, Washington, DC 20590.

Hand Delivery: West Building Ground Floor, Room W12-140, 1200 New Jersey Avenue, SE., Washington, DC, between 9 a.m. and 5 p.m., Monday through Friday, except Federal holidays.

Fax: 1-202-493-2251.

Instructions: Each submission must include the Agency name and the Docket number for this Notice. Note that all comments received will be posted without change to http://www.regulations.gov including any personal information provided.

FOR FURTHER INFORMATION CONTACT: Mr. Alan Block, Contracting Officer's Technical Representative, Office of Behavioral Safety Research (NTI-131), National Highway Traffic Safety Administration, 1200 New Jersey Avenue, SE., W46-499, Washington, DC 20590. Mr. Block's phone number is 202-366-6401 and his email address is alan.block@dot.gov.

SUPPLEMENTARY INFORMATION: Under the Paperwork Reduction Act of 1995, before an agency submits a proposed collection of information to OMB for approval, it must publish a document in the Federal Register providing a 60-day comment period and otherwise consult with members of the public and affected agencies concerning each proposed collection of information. The OMB has promulgated regulations describing what must be included in such a document. Under OMB's regulations (at 5 CFR 1320.8(d)), an agency must ask for public comment on the following:

(I) Whether the proposed collection of information is necessary for the proper performance of the functions of the agency, including whether the information will have practical utility;

(ii) The accuracy of the agency's estimate of the burden of the proposed collection of information, including the validity of the methodology and assumptions used;

(iii) How to enhance the quality, utility, and clarity of the information to be collected; and

(iv) How to minimize the burden of the collection of information on those who are to respond, including the use of appropriate automated, electronic, mechanical, or other technological collection techniques or other forms of information technology, e.g., permitting electronic submission of responses.

In compliance with these requirements, NHTSA asks public comment on the following proposed collection of information:

Demonstration Tests of Different High Visibility Enforcement Models

Type of Request—New information collection requirement.

OMB Clearance Number—None.

Form Number—NHTSA Forms 1121, 1122, 1123.

Requested Expiration Date of Approval—3 years from date of approval.

Summary of the Collection of Information—The National Highway Traffic Safety Administration (NHTSA) proposes to collect information from the public to evaluate three programs of sustained enforcement of the drinking and driving laws. The programs will extend over a period of 2 years. A baseline wave of telephone interviews with residents in 3 program sites and 2 comparison sites not carrying out a demonstration program will be conducted prior to the start of the enforcement program. Additional telephone survey waves will be conducted at each of the 5 sites at approximately 6 month intervals following the baseline survey wave until a final telephone survey wave is conducted after the conclusion of the program, for a total of 5 telephone survey waves including the baseline. Sample size for the program sites will be 1,200 while sample size for the comparisons sites will be 500, totaling 23,000 interviews. During the 3rd and 5th survey waves, 50 individuals interviewed during the baseline wave at each of the sites will be re-interviewed. This will add 500 interviews, for a grand total of 23,500 telephone interviews over a period of approximately 26 months. The survey will ask questions about drinking behavior, awareness of the enforcement program, impressions of the program's effectiveness and utility, and perceived risk of alcohol-impaired drivers being stopped by law enforcement officers. Interview length will average 10 minutes.

Augmenting the telephone surveys at each of the 3 program sites will be data collected from individuals at locations where there is an increased likelihood of persons at high risk of driving while alcohol-impaired, i.e., at bars. Data will be collected from 100 bar patrons concurrent with each of the 5 telephone survey waves for a total of 1,500 face-to-face interviews. Interview length will average 5 minutes and ask about awareness of the program and perceived risk of alcohol-impaired drivers being stopped by law enforcement officers.

Data will also be collected from drivers at the program and comparison sites through a roadside survey before, midway, and after the 2-year intervention period. Breath samples will be obtained to identify any changes in the distribution of roadside BACs (Blood Alcohol Concentration) across data collection periods, and the drivers will also be administered a 5-minute face-to-face interview. Sample size will be 100 drivers per site per data collection wave, for a total of 1,500 drivers. The interviews will collect information on program awareness and perceived risk of an alcohol-impaired driver being stopped by law enforcement officers.

In conducting the proposed telephone interviews, the interviewers would use computer-assisted telephone interviewing to reduce interview length and minimize recording errors. The proposed data collection at bars and the roadside survey would be anonymous; they would not collect any personal information that would allow anyone to identify respondents. The telephone interviews during wave 1 will include some collection of personally identifying information in order to conduct a small number of re-interviews during waves 3 and 5. However, that information will be held exclusively by the survey contractor, protected from disclosure to any other parties, and destroyed once no longer needed for re-contacting prospective respondents. Moreover, the personally identifiable information will be separated from the survey responses. No personally identifiable information will be collected during telephone survey waves 2 through 5.

Description of the Need for the Information and Proposed Use of the Information—NHTSA was established to reduce the number of deaths, injuries, and economic losses resulting from motor vehicle crashes on the Nation's highways. As part of this statutory mandate, NHTSA is authorized to conduct research as a foundation for the development of motor vehicle standards and traffic safety programs.

The heavy toll that alcohol-impaired driving exacts on the nation in fatalities, injuries, and economic costs is well documented. High visibility enforcement has historically had the strongest support in the research literature for effectiveness in reducing alcohol-impaired driving. Studies have demonstrated that prolonged commitment to highly visible and well-publicized enforcement of the drinking and driving laws, with enforcement and communication activities conducted on a regular basis, can result in substantial reduction in alcohol-related and alcohol-impaired driving crashes. In practice, however, law enforcement agencies have consolidated their high visibility alcohol enforcement efforts into a small number of enforcement waves that occur each year. The high visibility enforcement becomes an enhanced form of enforcement rather than something that the officers normally do. Thus attempting to sustain the high visibility enforcement over time entails determining how law enforcement agencies can integrate high visibility enforcement of the drinking and driving laws so that it is not producing an extra burden for officers but is rather a normal and regular part of their work.

NHTSA plans to demonstrate three community programs of high visibility enforcement of the drinking and driving laws. Two of those programs will be designed as fully integrated high visibility enforcement programs. Since many law enforcement agencies would be unable to move directly to a fully integrated program, a third program will be demonstrated that is operating at an intermediate level between current common practice and full integration. NHTSA will collect information to assess the extent to which the programs penetrate public awareness, how effective the programs are perceived by residents in the intervention communities, and whether changes occur over the course of the programs in the perceived risk of an alcohol-impaired driver being stopped by law enforcement officers. Because the alcohol crash fatality problem is concentrated among certain groups, particular attention will be paid to assessing this information for drivers most likely to drive at BACs above the legal limit. In addition to self-report information, NHTSA will collect roadside BAC data to obtain a measure of the distribution of BACs among drivers on the road.

NHTSA will use the findings from this proposed collection of information to assist States, localities, and law enforcement agencies to design and implement sustained programs of high visibility enforcement of the drinking and driving laws.

Description of the Likely Respondents (Including Estimated Number, and Proposed Frequency of Response to the Collection of Information)—Under this proposed effort, the Contractor would conduct 23,500 telephone interviews, 1,500 face-to-face interviews with bar patrons, and 1,500 face-to-face interviews with drivers who participate during roadside surveys. The telephone interviews will be conducted with drivers age 18 and older in the five selected communities, with over-sampling of drivers 18 through 34. Interview length will average 10 minutes. Interviews would be conducted with drivers at residential phone numbers selected through random digit dialing. Businesses are ineligible for the sample and would not be interviewed. A total of 250 respondents who complete the interview during the initial baseline survey wave will be administered the survey two additional times separated by 1-year intervals, for a total of three administrations of the survey over slightly more than a 2 year period. All other members of the sample will be administered the survey one time only.

The interviews with bar patrons will be conducted with individuals 21 years of age and older. Interview length will average approximately 5 minutes, and each member of the sample would complete one interview. Businesses are ineligible for the sample and would not be interviewed.

The roadside survey interviews will be conducted with drivers 18 and older. Interviews would average 5 minutes, and each member of the sample would complete one interview. Businesses are ineligible for the sample and would not be interviewed.

Estimate of the Total Annual Reporting and Record Keeping Burden Resulting from the Collection of Information—NHTSA estimates that respondents would require an average of 10 minutes to complete the telephone interviews or a total of 3,917 hours for the 23,500 respondents. The interviews with bar patrons will average 5 minutes or a total of 125 hours for the 1,500 respondents. The roadside survey interviews will also average 5 minutes or a total of 125 hours for the 1,500 respondents. The total number of estimated reporting burden hours on the general public would be 4,167. The annual reporting burden would be 1,923 hours based on a 26 month data collection period. The respondents would not incur any reporting cost from the information collection. The respondents also would not incur any record keeping burden or record keeping cost from the information collection.

Authority: 44 U.S.C. 3506(c)(2)(A).

Jeffrey Michael,
Associate Administrator, Research and Program Development.

[FR Doc. 2011-645 Filed 1-12-11; 8:45 am]

BILLING CODE 4910-59-P